DEPARTMENT OF EDUCATION

34 CFR Chapter VI

[Docket ID ED-2024-OPE-0065]

Research and Development Infrastructure Grant

AGENCY: Office of Postsecondary Education, Department of Education.

ACTION: Final priorities, requirements, and definitions.

SUMMARY: The Department of Education (Department) issues priorities, requirements, and definitions for use in the Research and Development Infrastructure (RDI) grant program. The Department may use one or more of these priorities, requirements, and definitions for competitions in fiscal year (FY) 2024 and later years. We intend for these priorities, requirements, and definitions to help Historically Black Colleges and Universities (HBCUs), Tribal Controlled Colleges and Universities (TCCUs), and Minority-Serving Institutions (MSIs) implement transformational investments in research infrastructure, including research productivity, faculty expertise, graduate programs, physical infrastructure, human capital development, and partnerships leading to increases in external funding.

DATES: These priorities, requirements, and definitions are effective August 19, 2024.

FOR FURTHER INFORMATION CONTACT: Jason Cottrell, Ph.D., U.S. Department of Education, 400 Maryland Avenue SW, Room 5C122, Washington, DC 20202-4260. Telephone: (202) 453-7530. Email: Jason.Cottrell@ed.gov.

If you are deaf, hard of hearing, or have a speech disability and wish to access telecommunications relay services, please dial 7-1-1.

SUPPLEMENTARY INFORMATION:

Purpose of Program: The RDI grant program is designed to provide HBCUs, TCCUs, and MSIs, including Asian American and Native American Pacific Islander Serving Institutions (AANAPISIs), Alaska Native and Native Hawaiian Serving Institutions (ANNH), Hispanic Serving Institutions (HSIs), Native American Serving Non-Tribal Institutions (NASNTIs), and Predominantly Black Institutions (PBIs), and consortia led by an eligible institution of higher education, with funds to implement transformational investments in research infrastructure, including research productivity, faculty expertise, graduate programs, physical infrastructure, human capital development, and partnerships leading to increases in external and sustained funding.

Assistance Listing Number: 84.116H.

Program Authority: 20 U.S.C. 1138-1138d.

We published a notice of proposed priorities, requirements, and definitions in the Federal Register on May 17, 2024 (89 FR 43352) (NPP). That document contained background information and the Department's reasons for proposing the particular priorities, requirements, and definitions. There is one substantive difference between the proposed priorities, requirements, and definitions and these final priorities, requirements, and definitions.

We have added Priority 5, as described below.

Public Comment: In response to our invitation in the NPP, six parties submitted comments on the proposed priorities, requirements, and definitions. Generally, we do not address technical and other minor changes, or suggested changes that the law does not authorize us to make under applicable statutory authority. In addition, we do not address general comments that raised concerns not directly related to the proposed priorities, requirements, or definitions.

Analysis of Comments and Changes: An analysis of the comments and of any changes in the priorities, requirements, and definitions since publication of the NPP follows.

Priorities

Comments: One commenter suggested that we modify Proposed Priority 1 to support schools that demonstrate intention and realistic capacity to move from any research status under the American Council on Education's Carnegie Classification System to classification as a Research College and University (RCU) or a Doctoral University with High Research Activity (R2), rather than limiting support to RCU and R2 institutions seeking to move up to classification as R2 or Doctoral University with Very High Research Activity (R1), respectively. The commenter suggested that, if an applicant can demonstrate a realistic prospect of movement into R1, it already has a substantial level of research and development infrastructure and financial capacity.

Discussion: The purpose of the RDI grant program is to support institutions that have limited resources and diverse student enrollments—as the eligible entities, HBCUs, TCCUs, and MSIs, do—with funds to implement transformational investments in research infrastructure to move into R2 or R1 status. Attaining R2 or R1 status assists institutions with recruiting top students and faculty, funding top-of-the-line facilities to conduct research, and producing and disseminating cutting-edge knowledge. While we recognize that a wide range of institutions, regardless of Carnegie classification, could benefit from additional investments in research and development (R&D) infrastructure, the Department believes that these limited funds have the greatest potential to transform R&D infrastructure at institutions if they are targeted to support institutions in making steps towards R2 and R1 status under the Carnegie Classification System. The funding is designed to help institutions move towards R2 or R1 status, regardless of how close they are to achieving it.

Changes: None.

Comments: One commenter proposed amending Proposed Priority 4 to align the Pell Grant recipient threshold from the proposed 50 percent of undergraduate students to the current Department of Education Office of Postsecondary Education standards for Title III and Title V grant programs. The commenter stated that this change would, by aligning requirements across Department programs, ease administrative burden on institutions.

Discussion: The 50 percent Pell recipient threshold in Priority 4 is a higher bar than either of the metrics used for eligibility for titles III and V programs. To be designated as eligible to apply under the titles III and V programs, institutions must demonstrate high enrollment of needy students by meeting either of the following two criteria: (1) at least 50 percent of its degree-seeking students received financial assistance under the Federal Pell Grant, Federal Supplemental Educational Opportunity Grant (FSEOG), or Federal Work Study (FWS) programs; or (2) the percentage of its undergraduate degree-seeking students who were enrolled on at least a half-time basis and received Federal Pell Grants exceeded the median percentage of undergraduate degree students who were enrolled on at least a half-time basis and received Federal Pell Grants at comparable institutions that offer similar instruction. For purposes of this priority, we believe this higher standard is appropriate because the explanatory statement originally authorizing funding for this program, contained within Division H of the Consolidated Appropriations Act, 2023 (Pub. L. 117-328), specified that these grants are intended to provide “transformational” investments to improve institutions' R&D infrastructure. The Department believes these funds have the highest potential to transform an institution's R&D infrastructure if they are targeted to the institutions with the fewest resources that enroll the highest percentages of needy students. We do not believe that this metric imposes any burden upon applicants because the Department will use administrative data to calculate the Pell percentage for applicant institutions.

Changes: None.

Comments: None.

Discussion: As we stated in the NPP, TCCUs currently have their own Carnegie classification and are not included in the R1, R2, or RCU classifications. Accordingly, we proposed Priority 2 for TCCUs, which uses an alternative measure of their R&D infrastructure. Since publication of the NPP, the American Council on Education announced that starting in 2025, TCCUs will be included in the same classification system as HBCUs, MSIs, and other institutions.¹ Therefore, we are adding a priority for TCCUs that mirrors the priorities for HBCUs and MSIs for use following the change to the Carnegie classifications, while maintaining Priority 2 so that the grant program can support TCCUs until such change occurs.

¹ 2025 Research Designations FAQs—CARNEGIE CLASSIFICATION OF INSTITUTIONS OF HIGHER EDUCATION (acenet.edu).

Changes: We have added Priority 5 to support projects proposed by TCCUs to implement high-quality transformative research capacity initiatives designed to move the institution from R2 to R1, or from RCU to R2, research activity status.

Requirements

Comments: Three commenters suggested changes to the match and waiver requirements. Two commenters proposed eliminating the match and waiver requirements, and another commenter suggested that schools applying under Priorities 2 or 4 should be exempt automatically from the match requirement.

Discussion: We believe that a match requirement will help ensure that there is sufficient institutional investment in the work supported by the grant to achieve and sustain a transformational impact. We recognize that some applicants will have fewer resources, which is the reason we include the exceptions. Rather than creating exceptions for some types of institutions, we think it is simpler to have a general matching requirement and allow low-resourced schools to qualify for a waiver.

Changes: None.

Comments: One commenter suggested that we revise Proposed Requirement 1, Use of Funds, to include “humanities” under allowable activity 1 and that we further specify that faculty development under activity 14 must improve or enhance faculty capacity to manage R&D projects in fields of research for which funds have been awarded under this program.

Discussion: Under activity 1, grantees may use funds to improve infrastructure relating to the enumerated fields, as well as “other disciplines.” The humanities would constitute another discipline under this allowable use of funds, and, accordingly, no change is required. We designed activity 14 relating to faculty professional development to allow for broad support, based on the specific needs of the faculty in the context of the particular project. We do not think that being more prescriptive would benefit grantees.

Changes: None.

Comments: One commenter recommended not restricting the indirect cost rate.

Discussion: The indirect cost reimbursement is limited to 8 percent of a modified total direct cost base. The Department proposed this limitation in order to maximize the Federal resources that support direct costs associated with the project.

Changes: None.

Definitions

Comments: One commenter suggested that the definition for Research Colleges and Universities (RCUs) should include an option to use data from an institution's annual financial statements instead of data from the National Science Foundation (NSF) Higher Education Research and Development (HERD) survey.

Discussion: To ensure that the program is supporting transformational investments in R&D infrastructure, consistent with the Explanatory Statement for this program, the Department is using the Carnegie Classifications for Institutional Research to determine an institution's current level of research activity. We believe this is the best measure because of the standardization for doctoral degree production and the measures of institutional dollars expended by the institution annually. Because Carnegie classifications are based on data from the NSF HERD survey, using this measure ensures consistency in how we assess institutional research activity.

Changes: None.

Final Priorities

The Secretary establishes the following priorities for use in the RDI grant program.

Priority 1: Funding for Historically Black Colleges and Universities' Research and Development Infrastructure.

Projects proposed by HBCUs to implement high-quality transformative research capacity initiatives and designed to move the institution from R2 to R1, or from RCU to R2, research activity status.

Priority 2: Funding for Tribal Controlled Colleges and Universities' Research and Development Infrastructure.

Projects proposed by TCCUs to improve their research and development activities, including infrastructure, faculty development, and academic programs.

Priority 3: Funding for Minority-Serving Institutions' Research and Development Infrastructure.

Projects proposed by MSIs to implement high-quality transformative research capacity initiatives and designed to move the institution from R2 to R1, or from RCU to R2, research activity status.

Priority 4: MSI Pell Grant Percentage.

Projects proposed by lead applicants with an enrollment of Pell Grant recipients that accounts for 50 percent or higher of their undergraduate student enrollment, as measured by the Department using the most recent data available in the Integrated Postsecondary Education Data System (IPEDS).

Priority 5: Funding for Tribal Controlled Colleges and Universities' Research And Development Infrastructure.

Projects proposed by TCCUs to implement high-quality transformative research capacity initiatives and designed to move the institution from R2 to R1, or from RCU to R2, research activity status.

Types of Priorities

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Final Requirements

The Secretary establishes the following requirements for use in the RDI grant program.

Requirement 1—Use of Funds. Grantees must conduct one or more of the following activities:

(1) Providing for the improvement of infrastructure existing on the date of the grant award, including deferred maintenance, or the establishment of new physical infrastructure, including instructional program spaces, laboratories, and research facilities relating to the fields of science, technology, engineering, the arts, mathematics, health, agriculture, education, medicine, law, and other disciplines.

(2) Hiring and retaining faculty, students, research-related staff, or other personnel, including research personnel skilled in operating, using, or applying technology, equipment, or devices to conduct or support research.

(3) Supporting research internships and fellowships for students, including undergraduate, graduate, and post-doctoral positions, which may include providing direct student financial assistance and other supports to such students.

(4) Creating new, or expanding existing, academic positions, including internships, fellowships, and post-doctoral positions, in fields of research for which research and development infrastructure funds have been awarded to the grantee under this program.

(5) Creating and supporting inter- and intra-institutional research centers (including formal and informal communities of practice) in fields of research for which research and development infrastructure funds have been awarded to the grantee under this program, including hiring staff, purchasing supplies and equipment, and funding travel to relevant conferences and seminars to support the work of such centers.

(6) Building new institutional support structures and departments that help faculty learn about, and increase faculty and student access to, Federal research and development grant funds and non-Federal academic research grants.

(7) Building data and collaboration infrastructure so that early findings and research can be securely shared to facilitate peer review and other appropriate collaboration.

(8) Providing programs of study and courses in fields of research for which research and development infrastructure funds have been awarded to the grantee under this program.

(9) Paying operating and administrative expenses for, and coordinating project partnerships with members of, the consortium on behalf of which the eligible institution has received a grant under this program, provided that grantees may not pay for the expenses of any R1 institutions that are members of the consortia.

(10) Installing or extending the life and usability of basic systems and components of campus facilities related to research, including high-speed broadband internet infrastructure sufficient to support digital and technology-based learning.

(11) Expanding, remodeling, renovating, or altering biomedical and behavioral research facilities existing on the date of the grant award that received support under section 404I of the Public Health Service Act (42 U.S.C. 283k).

(12) Acquiring and installing furniture, fixtures, and instructional research-related equipment and technology for academic instruction in campus facilities in fields of research for which research and development infrastructure funds have been awarded to the grantee under this program.

(13) Providing increased funding to programs that support research and development at the eligible institution that are funded by the National Institutes of Health, including through their Path to Excellence and Innovation program.

(14) Faculty professional development.

(15) Planning purposes.

Requirement 2—Indirect Cost Rate Information. A grantee's indirect cost reimbursement is limited to 8 percent of a modified total direct cost base. For more information regarding indirect costs, or to obtain a negotiated indirect cost rate, please see www.ed.gov/about/offices/list/ocfo/intro.html.

Requirement 3—Matching Requirements and Exceptions. Grantees must provide a 1:1 match, which can include in-kind donations. The Secretary may waive the matching requirement on a case-by-case basis upon a showing of any of the following exceptional circumstances:

(i) The difficulty of raising matching funds for a program to serve an area with high rates of poverty in the lead applicant's geographic location, defined as a Census tract, a set of contiguous Census tracts, an American Indian Reservation, Oklahoma Tribal Statistical Area (as defined by the U.S. Census Bureau), Alaska Native Village Statistical Area or Alaska Native Regional Corporation Area, Native Hawaiian Homeland Area, or other Tribal land or county that has a poverty rate of at least 25 percent as determined every 5 years using American Community Survey 5-Year data;

(ii) Serving a significant population of students from low-income backgrounds at the lead applicant location, defined as at least 50 percent (or the eligibility threshold for the appropriate institutional sector available at https://www2.ed.gov/about/offices/list/ope/idues/eligibility.html#app) of degree-seeking enrolled students receiving need-based grant aid under Title IV of the HEA;

(iii) Significant economic hardship as demonstrated by low average educational and general expenditures per full-time equivalent undergraduate student at the lead applicant institution, in comparison with the average educational and general expenditures per full-time equivalent undergraduate student of institutions that offer similar instruction without need of a waiver, as determined by the Secretary in accordance with the annual process for designation of eligible Titles III and V institutions; or

(iv) Information that otherwise demonstrates a commitment to the long-term sustainability of the applicant's projects, such as evidence of a consortium relationship with an R1 institution, a State bond, State matching, planning documents such as a campus plan, multi-year faculty hiring plan, support of industry, Federal grants received, or a demonstration of institutional commitment that may include commitment from the institution's board.

Requirement 4: Limitation on Grant Awards. The Department will only make awards to applicants that are not the individual or lead applicant in a current active grant from the RDI grant program.

Final Definitions

The Secretary establishes the following definitions for use in the RDI grant program.

Research 1: Very High Research Spending and Doctorate Production (R1) means that an institution has spent at least $50 million in total research and development (R&D) in a year, as reported to the National Science Foundation (NSF) Higher Education Research and Development (HERD) Survey, and awarded at least 70 research/scholarship doctorates in a year, as reported to IPEDS.

Research 2: High Research Spending and Doctorate Production (R2) means that an institution has spent at least $5 million in total R&D in a year, as reported to the NSF HERD Survey, and awarded at least 20 research/scholarship doctorates in a year, as reported to IPEDS. It does not include institutions designated R1.

Research Colleges and Universities (RCU) means that an institution has spent at least $2.5 million in total R&D in a year, as reported to the NSF HERD Survey. It does not include institutions designated R1 or R2.

Historically Black College or University means an institution that meets the eligibility requirements under section 322(2) of the Higher Education Act of 1965, as amended (HEA).

Minority-Serving Institution means an institution that is eligible to receive assistance under sections 317 through 320 of part A of title III, or under title V of the HEA.

Tribal Controlled Colleges or Universities has the meaning ascribed it in section 316(b)(3) of the HEA.

Underrepresented students means students enrolled in postsecondary, career, or technical education who are in one or more of the following subgroups: (i) A student from a low-income background. (ii) A student who is American Indian, Alaska Native, Asian American, Black, Hispanic or Latino, Native Hawaiian, and/or Pacific Islander.

This document does not preclude us from proposing additional priorities, requirements, definitions, or selection criteria, subject to meeting applicable rulemaking requirements.

Note: This document does not solicit applications. In any year in which we choose to use any of these priorities, requirements, or definitions, we invite applications through a notice in the Federal Register.

Executive Orders 12866, 13563, and 14094

Regulatory Impact Analysis

Under Executive Order 12866, the Office of Management and Budget (OMB) determines whether this regulatory action is “significant” and, therefore, subject to the requirements of the Executive order and subject to review by OMB. Section 3(f) of Executive Order 12866, as amended by Executive Order 14094, defines a “significant regulatory action” as an action likely to result in a rule that may—

(1) Have an annual effect on the economy of $200 million or more (adjusted every three years by the Administrator of Office of Information and Regulatory Affairs (OIRA) for changes in gross domestic product); or adversely affect in a material way the economy, a sector of the economy, productivity, competition, jobs, the environment, public health or safety, or State, local, territorial, or Tribal governments or communities;

(2) Create a serious inconsistency or otherwise interfere with an action taken or planned by another agency;

(3) Materially alter the budgetary impacts of entitlements, grants, user fees, or loan programs or the rights and obligations of recipients thereof; or

(4) Raise legal or policy issues for which centralized review would meaningfully further the President's priorities, or the principles set forth in this Executive order, as specifically authorized in a timely manner by the Administrator of OIRA in each case.

This final regulatory action is not a significant regulatory action subject to review by OMB under section 3(f) of Executive Order 12866, as amended by Executive Order 14094.

We have also reviewed this final regulatory action under Executive Order 13563, which supplements and explicitly reaffirms the principles, structures, and definitions governing regulatory review established in Executive Order 12866, as amended by Executive Order 14094. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing these final priorities, requirements, and definitions only on a reasoned determination that their benefits justify their costs. In choosing among alternative regulatory approaches, we selected those approaches that maximize net benefits. Based on the analysis that follows, the Department believes that this regulatory action is consistent with the principles in Executive Order 13563.

The potential costs associated with these priorities, requirements, and definitions are minimal, while the potential benefits are significant. The Department believes that this final regulatory action will not impose significant costs on eligible entities. Participation in this program is voluntary, and the costs imposed on applicants by this regulatory action will be limited to paperwork burden related to preparing an application. The potential benefits of implementing the program will outweigh the costs incurred by applicants, and the costs of carrying out activities associated with the application will be paid for with program funds. For these reasons, we have determined that the costs of implementation will not be burdensome for eligible applicants, including small entities.

We also have determined that this regulatory action does not unduly interfere with State, local, and Tribal governments in the exercise of their governmental functions.

In accordance with these Executive orders, the Department has assessed the potential costs and benefits, both quantitative and qualitative, of this regulatory action. The potential costs are those resulting from statutory requirements and those we have determined as necessary for administering the Department's programs and activities.

Intergovernmental Review: This program is subject to Executive Order 12372 and the regulations in 34 CFR part 79. One of the objectives of the Executive order is to foster an intergovernmental partnership and a strengthened federalism. The Executive order relies on processes developed by State and local governments for coordination and review of Federal financial assistance.

This document provides early notification of our specific plans and actions for this program.

Regulatory Flexibility Act Certification

The Secretary certifies that these final priorities, requirements, and definitions will not have a significant economic impact on a substantial number of small entities.

The small entities that this final regulatory action will affect are IHEs that meet the eligibility requirements described in section 241(1) of the HEA. The Secretary believes that the costs imposed on applicants by the final priorities, requirements, and definitions will be limited to paperwork burden related to preparing an application and that the benefits will outweigh any costs incurred by applicants.

Participation in this program is voluntary. For this reason, the final priorities, requirements, and definitions will impose no burden on small entities unless they applied for funding under the program. We expect that in determining whether to apply for RDI grant program funds, an eligible applicant would evaluate the requirements of preparing an application and any associated costs, and weigh them against the benefits likely to be achieved by receiving a grant. Eligible applicants most likely would apply only if they determine that the likely benefits exceed the costs of preparing an application. The likely benefits include the potential receipt of a grant as well as other benefits that may accrue to an entity through its development of an application, such as the use of that application to seek funding from other sources to address the institution's R&D infrastructure needs.

This final regulatory action will not have a significant economic impact on a small entity once it receives a grant because it will be able to meet the costs of compliance using the funds provided under this program.

Paperwork Reduction Act of 1995

These final priorities, requirements, and definitions do not contain any information collection requirements.

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, compact disc, or other accessible format.

Electronic Access to This Document: The official version of this document is the document published in the Federal Register. You may access the official edition of the Federal Register and the Code of Federal Regulations at www.govinfo.gov. At this site you can view this document, as well as all other Department documents published in the Federal Register, in text or Portable Document Format (PDF). To use PDF you must have Adobe Acrobat Reader, which is available free at the site.

You may also access Department documents published in the Federal Register by using the article search feature at www.federalregister.gov. Specifically, through the advanced search feature at this site, you can limit your search to documents published by the Department.

Nasser Paydar,
Assistant Secretary for Postsecondary Education.

[FR Doc. 2024-15537 Filed 7-17-24; 8:45 am]

BILLING CODE 4000-01-P